ELECTION ASSISTANCE COMMISSION

Sunshine Act Meetings

AGENCY: U.S. Election Assistance Commission.

ACTION: Sunshine Act notice; notice of public meeting agenda.

SUMMARY: Public Meeting: U.S. Election Assistance Commission Technical Guidelines Development Committee 2023 Annual Meeting.

DATES: Tuesday, December 5, 2023, 8:30 a.m.-5:00 p.m. ET.

Registration for attending this event in person is required and must be submitted by November 20, 2023. The registration form will be available at www.eac.gov/events/2023/12/05/eac-technical-guidelines-development-committee-annual-meeting-december-5-2023.

ADDRESSES: National Cybersecurity Center of Excellence, 9700 Great Seneca Highway, Rockville, MD 20850.

Information on where the public can watch the livestream of this meeting will be available at www.eac.gov/events/2023/12/05/eac-technical-guidelines-development-committee-annual-meeting-december-5-2023.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct the 2023 annual meeting of the EAC Technical Guidelines Development Committee (TGDC) to discuss regular business of the board.

Agenda: The EAC and TGDC members will hold an annual meeting to discuss program updates for EAC Testing and Certification and the National Institute of Standards and Technology (NIST) Voting Program. The meeting will also include the status of the Voluntary Electronic Poll Book Pilot Program, the annual review of the Voluntary Voting System Guidelines (VVSG), lab testing strategies, and more.

The full agenda will be posted in advance on the EAC website: www.eac.gov/events/2023/12/05/eac-technical-guidelines-development-committee-annual-meeting-december-5-2023.

Background: Section 221 of the Help America Vote Act (HAVA) of 2002 (52 U.S.C. 20971(b)) requires that the EAC to adopt voluntary voting system guidelines, and to provide for the testing, certification, decertification, and recertification of voting system hardware and software.

The TGDC was established in accordance with the requirements of Section 221 of the Help America Vote Act of 2002 (Pub. L. 107-252, codified at 52 U.S.C. 20961), to act in the public interest to assist the Executive Director of the EAC in the development of voluntary voting system guidelines.

This meeting will be open to the public.

Camden Kelliher,
Deputy General Counsel, U.S. Election Assistance Commission.

[FR Doc. 2023-25134 Filed 11-9-23; 11:15 am]

BILLING CODE 4810-71-P